DEPARTMENT OF DEFENSE

Office of the Secretary

[Transmittal Nos. 13-54]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-54 with attached transmittal, policy justification, and Sensitivity of Technology.

Dated: October 31, 2013.
Aaron Siegel,
Alternate OSD Federal Register Liaison Officer, Department of Defense.

Transmittal No. 13-54

Notice of Proposed Issuance of Letter of Offer Pursuant to Section 36(b) (1) of the Arms Export Control Act, as amended

(i) Prospective Purchaser: Republic of Singapore

(ii) Total Estimated Value:

Major Defense Equipment | $ 95 million
Other | $ 1 million
Total | $ 96 million

(iii) Description and Quantity or Quantities of Articles or Services under Consideration for Purchase: 88 Unitary High Explosive (HE) Guided Multiple Launch Rocket System (GMLRS) Pods with Tri-mode Fuse, and, containers, spare and repair parts, support equipment, tools and test equipment, publications and technical documentation, personnel training and training equipment, U.S. Government and contractor engineering, logistics, and technical support services, and other related elements of logistics and program support.

(iv) Military Department: Army (VFM)

(v) Prior Related Cases, if any:

FMS Case VDO-$330M-05 Dec 07

FMS case VEN-$10.6M-25 Feb 11

FMS case VET-$10.5M-26 Mar 12

(vi) Sales Commission, Fee, etc., Paid, Offered, or Agreed to be Paid: None

(vii) Sensitivity of Technology Contained in the Defense Article or Defense Services Proposed to be Sold: See Attached Annex.

(viii) Date Report Delivered to Congress: 25 Oct 13

* as defined in Section 47(6) of the Arms Export Control Act.

POLICY JUSTIFICATION

Singapore—Guided Multiple Launch Rocket System

The Government of Singapore has requested a possible sale of 88 Unitary High Explosive (HE) Guided Multiple Launch Rocket System (GMLRS) Pods with Tri-mode Fuse, and, containers, spare and repair parts, support equipment, tools and test equipment, publications and technical documentation, personnel training and training equipment, U.S. Government and contractor engineering, logistics, and technical support services, and other related elements of logistics and program support. The estimated cost is $96 million.

This proposed sale will contribute to the foreign policy and national security of the United States by increasing the ability of the Republic of Singapore to contribute to regional security. The proposed sale will improve the security of a strategic partner which has been, and continues to be, an important force for political stability and economic progress in the Asia Pacific region.

This proposed sale provides the Republic of Singapore with additional assets critical to maintaining its defensive capabilities to protect its territory and deter regional aggression. The GMLRS pods strengthen the Republic of Singapore Army's ability to defeat long-range artillery, air defense platforms, and light-armored vehicles in a precise, low-collateral damage strike. The Republic of Singapore will have no difficulty absorbing these additional GMLRS pods into its armed forces.

The proposed sale of this equipment and support will not alter the basic military balance in the region.

The principal contractor will be Lockheed Martin Missile and Fire Control in Grand Prairie, Texas. There are no known offset agreements proposed in connection with the potential sale.

Implementation of this proposed sale will require U.S. Government or contractor representatives to travel to Singapore for a period of one week to provide equipment deprocessing/fielding and Quality Assurance Team acceptance testing.

There will be no adverse impact on U.S. defense readiness as a result of this proposed sale.

Transmittal No. 13-54

Notice of Proposed Issuance of Letter of Offer Pursuant to Section 36(b)(1) of the Arms Export Control Act, as amended

Annex

Item No. vii

(vii) Sensitivity of Technology:

1. The GMLRS are the U.S. Army's primary munitions for organic Joint Expeditionary, all-weather, 24/7 tactical precision guided rockets employed by modular Fire Brigade Combat Teams, Division, Joint Special Operations Forces, and Joint Forces combatant commanders and are also a key component of the Marine Corps Future Fighting Effort. The GMLRS is the primary munition for units fielded with the High Mobility Artillery Rocket System (HIMARS) and Multiple Launch Rocket System (MLRS) M270A1 rocket and missile launcher platforms. The GMLRS provides close, medium, and long-range precision and area fires to destroy, suppress, and shape threat forces, including the following: cannon, mortar, rocket and artillery, light material armor, personnel, command and control, and air defense surface targets. The GMLRS integrates guidance and control packages with an improved rocket motor achieving greater range and precision accuracy, requiring fewer rockets to defeat targets, thereby reducing the logistics burden. The GMLRS-Unitary expands the MLRS target set into urban and complex environments by adding point, proximity and delay fusing modes. With over 2,500 rockets of its type fired in support of Overseas Contingency Operations (OCO), the GMLRS-Unitary rocket has demonstrated high effectiveness and low collateral damage while supporting Troops in Contact (TIC).

2. A determination has been made that the Government of Singapore can provide substantially the same degree of protection for the sensitive technology being released as the U.S. Government. The overall classification of the assembled GMLRS and components is Secret.

3. If a technologically advanced adversary were to obtain knowledge of the specific hardware and software elements, primarily performance characteristics, engagement algorithms and transmitter specific frequencies, the information could be used to develop countermeasures that might reduce weapon system effectiveness.

[FR Doc. 2013-26437 Filed 11-4-13; 8:45 am]

BILLING CODE 5001-06-P